DEPARTMENT OF ENERGY

Federal Energy Regulatory Commission

[Docket No. CP04-413-000]

Entrega Gas Pipeline Inc.; Notice of Availability, Route Inspection, and Public Comment Meetings on the Draft Environmental Impact Statement for the Entrega Pipeline Project

February 25, 2005.

The environmental staff of the Federal Energy Regulatory Commission (FERC or Commission) has prepared a draft Environmental Impact Statement (EIS) on the interstate natural gas pipeline transmission facilities proposed by Entrega Gas Pipeline Inc. (Entrega) in the above-referenced dockets.

The draft EIS was prepared to satisfy the requirements of the National Environmental Policy Act (NEPA). Its purpose is to inform the Commission, the public, and other permitting agencies about the potential adverse and beneficial environmental impacts associated with the proposed project and its alternatives, and to recommend practical, reasonable, and appropriate mitigation measures which would avoid or reduce any significant adverse impacts to the maximum extent practicable and, where feasible, to less than significant levels. The draft EIS concludes that the proposed project, with the potential exception of two route segments (the Piceance Basin Expansion Route Alternative and the Cheyenne Hub Variations), and with appropriate mitigating measures as recommended, would have limited adverse environmental impact. Additional public input is specifically being sought on these two segments to complete the routing analysis for the final EIS.

The U.S. Department of Interior, Bureau of Land Management (BLM) participated as a cooperating agency in the preparation of the draft EIS because the project would cross Federal lands under BLM administration in Wyoming and Colorado. The draft EIS will be used by the BLM to consider the issuance of a right-of-way (ROW) grant for the portion of the project on Federal lands. While the conclusions and recommendations presented in the draft EIS were developed with input from the BLM as a cooperating agency, the BLM will present its own conclusions and recommendations in its Record of Decision for the project.

Proposed Project

The Entrega Pipeline Project involves the construction and operation of a new interstate natural gas pipeline system that would extend between a proposed Meeker Hub in Rio Blanco County, Colorado; Wamsutter, in Sweetwater County, Wyoming; and the Cheyenne Hub in Weld County, Colorado. The draft EIS assesses the potential environmental effects of the construction and operation of the following facilities in Colorado and Wyoming:

• About 327.5 miles of new 36- and 42-inch-diameter pipeline—

—136.0 miles of 36-inch-diameter pipeline, with 86.2 miles in Colorado (Rio Blanco and Moffat Counties) and 49.8 miles in Wyoming (Sweetwater County); and

—191.5 miles of 42-inch-diameter pipeline, with 183.0 miles in Wyoming (Sweetwater, Carbon, Albany, and Laramie Counties) and 8.5 miles in Colorado (Larimer and Weld Counties);

• Three new compressor stations (the Meeker Hub and Bighole Compressor Stations in Colorado, the Wamsutter Compressor Station in Wyoming);

• Seven meters at interconnections with other pipeline systems (three associated with the new compressor stations, four at the new Cheyenne Hub Metering Station in Wyoming);

• Four pig launchers and four pig receivers (six associated with compressor and metering stations, one launcher and one receiver at the new Arlington Pigging Station in Wyoming);

• 22 mainline valves (5 valves at compressor and metering stations, 17 valves along the pipeline ROW); and

• Other associated facilities, such as access roads and powerlines.

The proposed project would be capable of transporting up to 1.5 billion cubic feet of natural gas per day from the Meeker Hub Compressor Station to interconnections at:

• Wamsutter, Wyoming with the Colorado Interstate Gas Company (CIG) and Wyoming Interstate Company, Ltd. transmission systems that serve markets east and west of Wamsutter; and

• The Cheyenne Hub (Weld County, Colorado) with CIG, Cheyenne Plains Gas Pipeline Company, Trailblazer Pipeline Company, and Public Service Company of Colorado. These systems would transport gas to markets in the Midwest and Central U.S. and the Eastern Slope south of the Cheyenne Hub.

Comment Procedures and Public Meetings

Any person wishing to comment on the draft EIS may do so. To ensure consideration of your comments on the proposal in the final EIS, it is important that we ¹ receive your comments before the date specified below. Please follow these instructions carefully to ensure that your comments are received in time and are properly recorded:

¹ “We,” “us,” and “our” refer to the environmental staff of the Commission's Office of Energy Projects.

• Send an original and two copies of your comments to: Magalie R. Salas, Secretary, Federal Energy Regulatory Commission, 888 First Street, NE., Room 1A, Washington, DC 20426;

• Reference Docket Nos. CP04-413-000;

• Label one copy of your comments for the attention of Gas Branch 1, PJ-11.1; and

• Mail your comments so that they will be received in Washington DC on or before April 18, 2005.

The Commission strongly encourages electronic filing of any comments or interventions or protests to this proceeding. See 18 Code of Federal Regulations (CFR) 385.2001(a)(1)(iii) and the instructions on the Commission's Web site at http://www.ferc.gov under the “e-Filing” link and the link to the User's Guide. Prepare your submission in the same manner as you would if filing on paper and save it to a file on your hard drive. Before you can file comments, you will need to create a free account, which can be created by clicking on “Login to File” and then “New User Account.”

In addition to or in lieu of sending written comments, the Commission invites you to attend a public comment meeting in the project area. Meetings are scheduled as shown on the following page.

Interested groups and individuals are encouraged to attend and present oral comments on the draft EIS. Transcripts of the meetings will be prepared.

Schedule for Public Comment Meetings
Date and time | Location
Monday, April 11, 2005, at 7 p.m. (MST) | Best Western Hitching Post, 1700 West Lincolnway, Cheyenne, WY.
Tuesday, April 12, 2005, at 7 p.m. (MST) | Hungry Miner Restaurant, 2300 West Spruce, Rawlins, WY.
Wednesday, April 13, 2005, at 7 p.m. (MST) | Moffat County Extension Office—CSU, 539 Barclay Street, Craig, CO.
Thursday, April 14, 2005, at 7 p.m. (MST) | CSU Extension, 779 Sulfur Creek Road, Meeker, CO.

After these comments are reviewed and considered, modifications will be made to the draft EIS and it will be published and distributed as a final EIS. The final EIS will contain responses to timely comments filed on the draft EIS.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Anyone may intervene in this proceeding based on the draft EIS. You must file your request to intervene as specified above. You do not need intervenor status to have your comments considered.

The draft EIS has been placed in the public files of the FERC and is available for public inspection at: Federal Energy Regulatory Commission, Public Reference Room, 888 First Street, NE., Room 2A, Washington, DC 20426; (202) 502-8371.

A limited number of copies are available from the FERC's Public Reference Room identified above. In addition, copies of the draft EIS have been mailed to Federal, state, and local agencies; public interest groups; individuals and affected landowners who have requested the draft EIS; libraries and newspapers in the project area; and parties to this proceeding.

Route Inspection

From April 11-14, we will also be conducting an inspection of select areas along the route and locations of aboveground facilities associated with Entrega's proposal. Anyone interested in participating in the inspection activities may contact the FERC's Office of External Affairs (identified below) for more details and must provide their own transportation.

Questions?

Additional information about the proposed project is available from the Commission's Office of External Affairs, at 1-866-208-FERC or on the FERC Internet Web site (http://www.ferc.gov) using the “eLibrary” link. Click on the eLibrary link, click on “General Search” and enter the docket number excluding the last three digits (i.e., CP04-413) in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Information concerning the involvement of the BLM is available from Tom Hurshman, BLM Project Manager, at (970) 240-5345.

Magalie R. Salas,
Secretary.

[FR Doc. E5-892 Filed 3-2-05; 8:45 am]

BILLING CODE 6717-01-P